FEDERAL COMMUNICATIONS COMMISSION

[DA 01-2338]

Telecommunications Services Between The United States and Cuba

AGENCY: Federal Communications Commission.

ACTION: Notice.

SUMMARY: On October 18, 2001 the Commission authorized Sprint Communications Company, L.P. (Sprint) to lease and operate additional satellite facilities to upgrade an existing private line circuit from 2 Mbps to 6 Mbps between the United States and Cuba via an INTELSAT AOR satellite. Sprint is currently authorized by the Commission to provide service directly to Cuba. The Commission has authorized Sprint to provide service between the United States and Cuba in accordance with the provisions of the Cuban Democracy Act. Under the guidelines established by the Department of State, Sprint must submit reports indicating the numbers of circuits activated by facility, on or before June 30th, and December 31st of each year, and on the one-year anniversary of this notification in the Federal Register.

DATES: Effective October 5, 2001.

FOR FURTHER INFORMATION CONTACT: Claudia Fox, Deputy Chief, Policy Division, International Bureau, (202) 418-1527.

Federal Communications Commission.
James Ball,
Chief, Policy Division, International Bureau.

[FR Doc. 02-10655 Filed 4-30-02; 8:45 am]

BILLING CODE 6712-01-P